INTERNATIONAL TRADE COMMISSION

[Investigation 701-TA-720 (Final)]

Ceramic Tile From India

Determination

On the basis of the record ¹ developed in the subject investigation, the United States International Trade Commission (“Commission”) determines, pursuant to the Tariff Act of 1930 (“the Act”), that an industry in the United States is threatened with material injury by reason of imports of ceramic tile from India, provided for in subheadings 6907.21.10, 6907.21.20, 6907.21.30, 6907.21.40, 6907.21.90, 6907.22.10, 6907.22.20, 6907.22.30, 6907.22.40, 6907.22.90, 6907.23.10, 6907.23.20, 6907.23.30, 6907.23.40, 6907.23.90, 6907.30.10, 6907.30.20, 6907.30.30, 6907.30.40, 6907.30.90, 6907.40.10, 6907.40.20, 6907.40.30, 6907.40.40, and 6907.40.90 of the Harmonized Tariff Schedule of the United States, that have been found by the U.S. Department of Commerce (“Commerce”) to be subsidized by the government of India.²

¹ The record is defined in § 207.2(f) of the Commission's Rules of Practice and Procedure (19 CFR 207.2(f)).

² 90 FR 17036 (April 23, 2025).

Background

The Commission instituted this investigation effective April 19, 2024, following receipt of a petition filed with the Commission and Commerce by Coalition for Fair Trade in Ceramic Tile.³ The Commission scheduled the final phase of the investigation following notification of a preliminary determination by Commerce that imports of ceramic tile from India were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register of December 20, 2024 (89 FR 104206). The Commission conducted its hearing on April 17, 2025. All persons who requested the opportunity were permitted to participate.

³ The Coalition for Fair Trade in Ceramic Tile is comprised of Crossville, Inc., Crossville, TN; Dal-Tile Corporation, Dallas, TX; Del Conca USA, Inc., Loudon, TN; Wonder Porcelain, Lebanon, TN; Landmark Ceramics—UST, Inc., Mount Pleasant, TN; Florim USA, Clarksville, TN; Florida Tile, Lexington, KY; Portobello America Manufacturing LLC, Pompano Beach, FL; and StonePeak Ceramics Inc., Chicago, IL.

The Commission made this determination pursuant to § 705(b) of the Act (19 U.S.C. 1671d(b)). It completed and filed its determination in this investigation on June 9, 2025. The views of the Commission are contained in USITC Publication 5630 (June 2025), entitled Ceramic Tile from India: Investigation 701-TA-720 (Final).

By order of the Commission.
Issued: June 9, 2025.
Lisa Barton,
Secretary to the Commission.

[FR Doc. 2025-10752 Filed 6-12-25; 8:45 am]

BILLING CODE 7020-02-P